FEDERAL TRADE COMMISSION

[Project No. P962501]

Ganley Ford West, Inc.; Timonium Chrysler, Inc.; TRENDnet, Inc.; Pinnacle Entertainment, Inc.; Honeywell International, Inc.; Nielsen Holdings, Inc., et al.; Polypore International, Inc.; Mylan, Inc., et al.; Actavis, Inc., et al.; Agency Information Collection Activities (Consumer Product Warranty Rule, Regulation O, Affiliate Marketing Rule)

AGENCY: Federal Trade Commission (FTC or Commission).

ACTION: Notice of extension of public comment deadlines in Commission proceedings.

SUMMARY: The FTC is extending the deadlines by which public comments must be filed in a number of Commission proceedings.

DATES: Written comments in particular proceedings must be received by the dates specified in the SUPPLEMENTARY INFORMATION section below.

ADDRESSES: Interested parties may file comments online by following the instructions detailed in the news releases and accompanying Federal Register Notices describing each of the proceedings involved, which are listed in and electronically accessible through the SUPPLEMENTARY INFORMATION section below. Interested parties who prefer to file their comments in any of the listed proceedings on paper may do so by mailing or delivering their comments to the following address: Federal Trade Commission, Office of the Secretary, Room H-113 (Annex E), 600 Pennsylvania Avenue NW., Washington, DC 20580.

FOR FURTHER INFORMATION CONTACT: Donald S. Clark, Secretary, Office of the Secretary, (202) 326-2514, Federal Trade Commission, Washington, DC 20580.

SUPPLEMENTARY INFORMATION:

A. Introduction

The federal government shutdown began on October 1, 2013, and ended on October 16, 2013. The public comment periods for a number of Commission proceedings were open for part or all of the shutdown period; however, during the shutdown period it was not possible for interested parties to file comments in these proceedings. In order to ensure that interested parties have a full opportunity to file comments in these proceedings, the Commission has determined to extend the public comment period for the following proceedings. In particular, for each proceeding arising from Commission acceptance for public comment of an Administrative Consent Agreement—or from an application for Commission approval of a divestiture pursuant to a Commission Decision and Order—the Commission has determined to extend the public comment period until November 12, 2013. The ten proceedings covered by this determination—and the news release in which each such proceeding is described—include the following:

1. In the Matter of Ganley Ford West, Inc., File No. 122 3269 (Consent Agreement): http://www.ftc.gov/opa/2013/09/autoads.shtm.

2. In the Matter of Timonium Chrysler, Inc., File No. 132 3014 (Consent Agreement): http://www.ftc.gov/opa/2013/09/autoads.shtm.

3. In the Matter of TRENDnet, Inc., File No. 122 3090 (Consent Agreement): http://www.ftc.gov/opa/2013/09/trendnet.shtm.

4. In the Matter of Pinnacle Entertainment, Inc., et al., Docket No. 9355 (Application to Divest Ameristar Casinos Assets in Lake Charles, Louisiana): http://www.ftc.gov/opa/2013/09/pinnacle.shtm.

5. In the Matter of Honeywell International, Inc., File No. 131 0070 (Consent Agreement): http://www.ftc.gov/opa/2013/09/honeywell.shtm.

6. In the Matter of Pinnacle Entertainment, Inc., et al., Docket No. 9355 (Application to Divest Pinnacle Assets in St. Louis, Missouri): http://www.ftc.gov/opa/2013/09/pinnacleapp.shtm.

7. In the Matter of Nielsen Holdings, Inc., et al., File No. 131 0058 (Consent Agreement): http://www.ftc.gov/opa/2013/09/nielsen.shtm.

8. In the Matter of Polypore International, Inc., Docket No. 9327 (Application To Divest Stock and Assets Related to Microporous): http://www.ftc.gov/opa/2013/09/polypore.shtm.

9. In the Matter of Mylan, Inc., et al., File No. 131 0112 (Consent Agreement): http://www.ftc.gov/opa/2013/09/mylan.shtm.

10. In the Matter of Actavis, Inc., et al., File No. 131 0152 (Consent Agreement): http://www.ftc.gov/opa/2013/09/actavis.shtm.

The Commission has also determined to extend the public comment period for three proceedings in which it has proposed to collect information in a manner subject to the requirements of the Paperwork Reduction Act. The proceedings covered by this determination, the Federal Register Notice in which each proceeding is described, and the new deadline by which public comments must be received are as follows:

11. Agency Information Collection Activities; Proposed Collection; Comment Request; Consumer Product Warranty Rule: FTC File No. P044403; 78 FR 47317 (August 5, 2013): http://www.ftc.gov/os/fedreg/2013/08/130805warrantyrules.pdf (comment period extended until November 8, 2013);

12. Agency Information Collection Activities; Proposed Collection; Comment Request; Regulation O PRA Comment, FTC File No. P134812; 78 FR 52915 (August 27, 2013): http://www.ftc.gov/os/fedreg/2013/08/130827cfpb-rego.pdf (comment period extended until November 13, 2013);

13. Agency Information Collection Activities; Proposed Collection; Comment Request; Affiliate Marketing Rule PRA: FTC File No. P134812; 78 FR 52918 (August 27, 2013): http://www.ftc.gov/os/fedreg/2013/08/130827affiliatemarktrule.pdf (comment period extended until November 13, 2013).

B. Invitation To Comment

You can file a comment online or on paper. For the Commission to consider your comment in Proceedings Nos. 1-10, we must receive it on or before November 12, 2013. For the Commission to consider your comment in Proceedings Nos. 11-13, we must receive it on or before the dates indicated immediately above for those respective proceedings. Please write the name and matter number of the proceeding on your comment, and please note that your comment—including your name and your state—will be placed on the public record of that proceeding, including, to the extent practicable, on the public Commission Web site, at http://www.ftc.gov/os/publiccomments.shtm. As a matter of discretion, the Commission tries to remove individuals' home contact information from comments before placing them on the Commission Web site.

Because your comment will be made public, you are solely responsible for making sure that your comment does not include any sensitive personal information, such as Social Security number, date of birth, driver's license number or other state identification number or foreign country equivalent, passport number, financial account number, or credit or debit card number. You are also solely responsible for making sure that your comment does not include any sensitive health information, including medical records or other individually identifiable health information. In addition, do not include any “[t]rade secret or any commercial or financial information . . . which is privileged or confidential,” as provided in Section 6(f) of the FTC Act, 15 U.S.C. 46(f), and FTC Rule 4.10(a)(2), 16 CFR 4.10(a)(2). In particular, do not include competitively sensitive information such as costs, sales statistics, inventories, formulas, patterns, devices, manufacturing processes, or customer names.

If you want the Commission to give your comment confidential treatment, you must file it in paper form, with a request for confidential treatment, and follow the procedure explained in FTC Rule 4.9(c), 16 CFR 4.9(c).¹ Your comment will be kept confidential only if the FTC General Counsel grants your request in accordance with the law and the public interest.

¹ In particular, the written request for confidential treatment that accompanies the comment must include the factual and legal basis for the request, and must identify the specific portions of the comment to be withheld from the public record. See FTC Rule 4.9(c), 16 CFR 4.9(c).

Postal mail addressed to the Commission is subject to delay due to heightened security screening. As a result, we encourage you to submit your comment online, by following the instructions in the news release describing the proceeding in which you wish to file a comment. If the Notice describing that proceeding appears at http://www.regulations.gov/#!home, you also may file a comment through that Web site.

If you file your comment on paper, write the name and matter number of the proceeding on your comment and on the envelope, and mail or deliver it to the following address: Federal Trade Commission, Office of the Secretary, Room H-113 (Annex E), 600 Pennsylvania Avenue NW., Washington, DC 20580. If possible, submit your paper comment to the Commission by courier or overnight service.

Visit the Commission Web site at http://www.ftc.gov to read this Notice and the news release describing it. The FTC Act and other laws that the Commission administers permit the collection of public comments to consider and use in this proceeding as appropriate. The Commission will consider all timely and responsive public comments that it receives. You can find more information, including routine uses permitted by the Privacy Act, in the Commission's privacy policy, at http://www.ftc.gov/ftc/privacy.htm.

By direction of the Commission.²
² Commissioner Ohlhausen did not participate in the decision with respect to In the Matter of Nielsen Holdings N.V. and Arbitron Inc., File No. 131 0058, from which she is recused.
Donald S. Clark,
Secretary.

[FR Doc. 2013-26011 Filed 10-31-13; 8:45 am]

BILLING CODE 6750-01-P